DEPARTMENT OF ENERGY

Federal Energy Regulatory Commission

[Docket Nos. EC06-74-000, et al.]

Genesee Power Station Limited Partnership, et al.; Electric Rate and Corporate Filings

February 10, 2006.

The following filings have been made with the Commission. The filings are listed in ascending order within each docket classification.

1. Genesee Power Station Limited Partnership

[Docket No. EC06-74-000]

Take notice that on February 6, 2006, Genesee Power Station Limited Partnership (Applicant) submitted an application pursuant to section 203 of the Federal Power Act for authorization for the disposition of jurisdictional facilities resulting from a transfer of the direct and indirect ownership interests in Applicant held by CMS Generation Holdings Co. and CMS Generation Genesee Co. (collectively, the CMS Entities) to GPP Holding, L.L.C. Applicant owns an approximately 35 MW small power production facility located in Genesee Township, Michigan.

Applicant has requested confidential treatment for Exhibit I, because it contains sensitive commercial and financial information that is not publicly available.

Comment Date: 5 p.m. eastern time on February 27, 2006.

2. Rumfod Power Associates Limited Partnership

[Docket No. EG06-32-000]

Take notice that on February 6, 2006, Rumford Power Associates Limited Partnership (Applicant) filed with the Commission an application for determination of exempt wholesale generator status pursuant to Part 365 of the Commission's regulations.

Comment Date: 5 p.m. eastern time on February 27, 2006.

3. Tiverton Power Associates Limited Partnership

[Docket No. EG06-33-000]

Take notice that on February 6, 2006, Tiverton Power Associates Limited Partnership Commission an application for determination of exempt wholesale generator status pursuant to Part 365 of the Commission's regulations.

Comment Date: 5 p.m. eastern time on February 27, 2006.

4. Old Trail Wind Farm, LLC

[Docket No. EG06-34-000]

Take notice that on February 6, 2006, Old Trail Wind Farm, LLC (Applicant) filed with the Federal Energy Regulatory Commission an application for determination of exempt wholesale generator status pursuant to section 32(a)(1) of the Public Utility Holding Company Act of 1935, as amended. Applicant states it is a Delaware limited liability company that is engaged directly and exclusively in developing, owning, and operating a wind powered electric generating facility located in McLean County, Illinois, which will be an eligible facility, and selling electric energy at wholesale.

Comment Date: 5 p.m. eastern time on February 27, 2006.

5. High Trail Wind Farm, LLC

[Docket No. EG06-35-000]

Take notice that on February 6, 2006, High Trail Wind Farm, LLC (Applicant) filed with the Federal Energy Regulatory Commission an application for determination of exempt wholesale generator status pursuant to section 32(a)(1) of the Public Utility Holding Company Act of 1935, as amended. Applicant states it is a Delaware limited liability company that is engaged directly and exclusively in developing, owning, and operating a wind powered electric generating facility located in McLean County, Illinois, which will be an eligible facility, and selling electric energy at wholesale.

Comment Date: 5 p.m. eastern time on February 27, 2006.

6. ExTex LaPorte Limited Partnership

[Docket No. EG06-36-000]

Take notice that on February 7, 2006, ExTex LaPorte Limited Partnership filed with the Federal Energy Regulatory Commission an application for determination of exempt wholesale generator status pursuant to Part 365 of the Commission's regulations.

Applicant states it owns and operates three electric generating facilities, each of which is an eligible facility, and it currently is an exempt wholesale generator.

Comment Date: 5 p.m. eastern time on February 28, 2006.

6. American Electric Power Service Corporation

[Docket No. ER06-599-000]

Take notice that on February 1, 2006, the American Electric Power Service Corporation as an agent for its affiliates Ohio Power Company and Columbus Southern Power Company, tendered for filing exhibits to a Repair and Maintenance Agreement between AEP and America Municipal Power-Ohio, Inc., dated April 16, 2004 as amended on September 13, 2004 in Docket No. ER04-1018-001.

Comment Date: 5 p.m. eastern time on February 22, 2006.

7. Barrick Gold Corporation Barrick Goldstrike Mines, Inc.

[Docket No. PH06-1-000]

Take notice that on January 17, 2006, Barrick Gold Corporation and Barrick Goldstrike Mines Inc., pursuant to 18 CFR 366.3(c) , tendered for filing a FERC-65B Waiver Notifiction.

Comment Date: 5 p.m. eastern time on February 21, 2006.

8. Dayton Power and Light Company

[Docket No. PH06-2-000]

Take notice that on January 31, 2006, the Dayton Power and Light Company, pursuant to 18 CFR 366(c), tendered for filing a FERC-65B Waiver Notification.

Comment Date: 5 p.m. eastern time on February 21, 2006

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-2261 Filed 2-16-06; 8:45 am]

BILLING CODE 6717-01-P